DEPARTMENT OF COMMERCE

International Trade Administration

[A-201-806]

Carbon Steel Wire Rope from Mexico: Preliminary Results of Antidumping Duty Administrative Review and New Shipper Review, and Determination Not To Revoke the Antidumping Duty Order in Part

AGENCY: Import Administration, International Trade Administration, Department of Commerce.

ACTION: Notice of preliminary results of antidumping duty administrative review and new shipper review, and determination not to revoke the antidumping duty order in part.

SUMMARY: The Department of Commerce (the Department) is conducting an administrative review of the antidumping duty order on carbon steel wire rope from Mexico in response to requests by respondent Aceros Camesa S.A. de C.V. (Camesa) and petitioner, the Committee of Domestic Steel Wire Rope and Specialty Cable Manufacturers (the Committee). Camesa also requested that the order be revoked as it pertains to sales of its products to the United States. This review covers exports of subject merchandise to the United States during the period March 1, 1998 through February 28, 1999.

We have preliminarily determined that Camesa's sales have been made below normal value (NV). If these preliminary results are adopted in our final results of this administrative review, we will instruct the U.S. Customs Service to assess antidumping duties based on the difference between the export price (EP) or constructed export price (CEP) and the NV.

The Department is also conducting a new shipper review of the antidumping duty order on carbon steel wire rope from Mexico in response to a request by respondent Cablesa S.A. de C.V. (Cablesa).¹ This new shipper review also covers exports of subject merchandise to the United States during the period March 1, 1998 through February 28, 1999.

¹ After receiving from Cablesa a waiver of the normal time limits for a new shipper review under 19 CFR § 351.214(j)(3), we determined to publish the results of this new shipper review simultaneously with the results of the administrative review. See 64 FR 61825 (November 15, 1999).

We have preliminarily determined that Cablesa's sales have not been made below NV. If these preliminary results are adopted in our final results, we will instruct the U.S. Customs Service to liquidate appropriate entries without regard to antidumping duties.

Interested parties are invited to comment on these preliminary results. Parties who submit comments are requested to submit with each comment a statement of the issue and a brief summary of the comment.

EFFECTIVE DATE: April 7, 2000.

FOR FURTHER INFORMATION CONTACT: Mark Hoadley, (202) 482-0666, or Maureen Flannery, (202) 482-3020, AD/CVD Enforcement, Import Administration, International Trade Administration, U.S. Department of Commerce, 14th Street and Constitution Avenue, NW., Washington DC 20230.

APPLICABLE STATUTE AND REGULATIONS: Unless otherwise stated, all citations to the statute are references to the provisions effective January 1, 1995, the effective date of the amendments made to the Tariff Act of 1930 (the Act) by the Uruguay Round Agreements Act. In addition, unless otherwise stated, all citations to the Department's regulations are references to the regulations as codified at 19 CFR part 351 (April 1999).

SUPPLEMENTARY INFORMATION:

Background

The Department published in the Federal Register the antidumping duty order on steel wire rope from Mexico on March 25, 1993 (58 FR 16173). On March 9, 1999 we published in the Federal Register (64 FR 11439) a notice of opportunity to request an administrative review of the antidumping duty order on steel wire rope from Mexico covering the period March 1, 1998 through February 28, 1999.

In accordance with 19 CFR 351.213(b)(2), Camesa requested that we conduct an administrative review of its sales. The Committee also requested a review of Camesa's sales, in accordance with 19 CFR 351.213(b)(1). We published a notice of initiation of this antidumping duty administrative review on April 30, 1999 (64 FR 23269).

In accordance with 19 CFR 351.214, Cablesa requested that we conduct a new shipper review of its sales. We published a notice of initiation of this new shipper review on May 7, 1999 (64 FR 24573).

In accordance with section 773(b)(2)(A)(ii), the Department initiated a sales-below-cost investigation of Camesa. The Department determined to initiate this inquiry because, during the immediately preceding review of this antidumping duty order, the second administrative review, the Department disregarded some of Camesa's below-cost sales. The final results of the second administrative review were published on July 27, 1999 (64 FR 40549). We received cost data from Camesa on August 2, 1999.

During this review, the Department conducted verifications of the information provided by Cablesa and information provided by Camesa concerning its further manufacturing of subject merchandise in the United States. We used standard verification procedures, including on-site inspection of the manufacturer's facilities and the examination of relevant sales and financial records. Our verification results for Cablesa are outlined in business-proprietary and public versions of the verification reports. Our verification results for Camesa are not available (refer to following paragraph).

On September 28, 1999, the Department received a letter from Camesa announcing its intention not to continue participating in this review, including the final days of verification scheduled for the following week. It stated that all material it had submitted during this review should be returned by the Department and the Committee and removed from the record. The Department destroyed all such material with the exception of Camesa's September 28 letter. See Memorandum to the File (November 5, 1999).

Scope of the Review

The product covered by this review is carbon steel wire rope. Steel wire rope encompasses ropes, cables, and cordage of iron or carbon steel, other than stranded wire, not fitted with fittings or made up into articles, and not made up of brass plated wire. Imports of these products are currently classifiable under the following Harmonized Tariff Schedule (HTS) subheadings: 7312.10.9030, 7312.10.9060 and 7312.10.9090.

Excluded from this review is stainless steel wire rope, which is classifiable under the HTS subheading 7312.10.6000, and all forms of stranded wire, with the following exception.

Based on the affirmative final determination of circumvention of the antidumping duty order, 60 FR 10831 (Feb. 28, 1995), the Department has determined that steel wire strand, when manufactured in Mexico by Camesa and imported into the United States for use in the production of steel wire rope, falls within the scope of the antidumping duty order on steel wire rope from Mexico. Such merchandise is currently classifiable under subheading 7312.10.3020 of the HTS.

Although HTS subheadings are provided for convenience and Customs purposes, the written description of the scope of this order remains dispositive.

These reviews cover the period March 1, 1998 through February 28, 1999.

Camesa

Application of Facts Available

Section 776(a)(2) of the Act provides that if any interested party: (A) Withholds information that has been requested by the Department; (B) fails to provide such information in a timely manner or in the form or manner requested; (C) significantly impedes an antidumping proceeding; or (D) provides such information but the information cannot be verified, the Department shall use the facts otherwise available (FA) in reaching the applicable determination under this title.

As noted above, Camesa notified the Department of its intent not to continue participating in the administrative review and requested the return or destruction of all of its submissions. Additionally, Camesa informed the Department that it would not be participating further in verification. Thus, the Department does not have any information with which to calculate a margin. We determine that Camesa's actions amount to withholding information requested by the Department, thus significantly impeding our review. As such, consistent with sections 776(a)(2)(A) and (C) of the Act, we are relying upon the facts otherwise available. Furthermore, we determine that Camesa did not cooperate to the best of its ability with our requests for information, and that, pursuant to section 776(b) of the Act, the use of adverse FA is appropriate.

Under section 776(b) of the Act, adverse FA may include reliance on information derived from: (1) The petition, (2) a final determination in the investigation, (3) any previous review under section 751 of the Act or determination under section 753 of the Act, or (4) any other information placed on the record. For Camesa, we have used the highest rate from the investigation, 111.68 percent, which is the “all others rate” established in the investigation and which was Camesa's rate until the first review.

Section 776(c) of the Act provides that the Department shall, to the extent practicable, corroborate secondary information using independent sources reasonably at its disposal. The Statement of Administrative Action, H.R. Doc. No. 103-316, 870 (1994) (SAA) provides that “corroborate” means simply that the Department will satisfy itself that the secondary information to be used has probative value. See SAA, at 870. In this case, the margin we are using is Camesa's margin from the investigation of sales at less than fair value (LTFV). Therefore, we consider the rate to have probative value.

Determination Not To Revoke in Part

Section 351.222(b)(2)(i) requires that in order for the Department to revoke an order in part we must, among other requirements, determine that the exporter or producer has sold the merchandise at not less than NV for a period of at least three consecutive years. Because we have determined that Camesa has sold subject merchandise at less than NV during the current review period, we have determined not to revoke the order in part.

Cablesa

Product Comparisons

In accordance with section 771(16) of the Act, we considered all products produced by Cablesa covered by the description in the “Scope of Review” section, above, and sold in the home market during the period of review (POR) to be foreign like products for the purposes of determining appropriate product comparisons with U.S. sales. In the Product Concordance section (Appendix V) of our questionnaire, we provided the following hierarchy of product characteristics to be used for reporting identical and most similar comparisons of merchandise: (1) Type of steel wire (finishing type); (2) diameter of wire rope; (3) type of core; (4) class of wire rope; (5) grade of steel; (6) number of wires per strand; (7) design of strands; and (8) lay of rope.

Cablesa requested that we allow it to limit its reporting of home market sales of steel wire rope to products having the same finish and belonging to the same class as those products sold in the United States. Product finish can be either galvanized or non-galvanized. Product class is determined by the number of wires and strands twined together to produce a rope. Cablesa argued that sales with the same finish and within the same class would provide all necessary matches for the U.S. sale, because such products were most similar. Cablesa stressed that, because the Department was not conducting a sales-below-cost test, it could conduct its analysis with sales of these similar products alone, and that any other reported sales would be superfluous. We agreed that Cablesa could limit its reporting as requested, but stated that we might at a later date require the reporting of additional home market sales on short notice. See Letter from Barbara Tillman to Cablesa (July 31, 1999).

On January 11, 2000, the Department requested that Cablesa submit additional home market sales. On January 28, 2000, Cablesa submitted a response containing some additional sales information and requesting that the Department calculate NV using this additional information or information previously placed on the record. Upon reviewing Cablesa's submission, we determined that this additional information, combined with information already on the record, is sufficient for margin calculation purposes. Specifically, Cablesa's submission demonstrates that, although the Department does not have sales data for all of Cablesa's home market sales during the POR, any additional home market sales data would not be of similar merchandise, and thus would not provide valid matches. For a more detailed discussion, see Memorandum to Edward Yang, Basis for Normal Value (March 30, 2000).

United States Price

We based United States price on EP, as defined in section 772(a) of the Act, because the merchandise was sold directly by the manufacturer to an unaffiliated U.S. purchaser prior to the date of importation, and because CEP was not indicated by other facts of record.

The Department calculated EP for Cablesa based on packed, delivered prices to customers in the United States. We made deductions for domestic and foreign inland freight expenses, inland insurance, U.S. customs duties, and brokerage and handling, in accordance with section 772(c)(2)(A).

Normal Value

We have preliminarily determined that none of the home market sales reported by Cablesa provides a suitable basis for calculating NV. Each reported home market sale is either not contemporaneous with the U.S. sale, would require a difference in merchandise adjustment of greater than 20 percent to be matched with the U.S. sale, or could not be shown to have been made on an arm's-length basis with home market customers. Therefore, we based NV on constructed value (CV). CV consists of the cost of manufacturing the product sold in the United States, plus amounts for selling, general, and administrative expenses, interest expenses, U.S. packing expenses, U.S. credit expenses, and profit made on sales of foreign like merchandise in the home market. We deducted an amount for home market credit expense in order to compare CV to the U.S. sale.

Preliminary Results of the Review

For Camesa, based on adverse facts available, and for Cablesa, based on our comparison of CV and EP, we preliminarily determine that the following weighted-average dumping margins exist:

Exporter/manufacturer | Weighted-average margin percentage
Aceros Camesa, S.A. de C.V. | 111.68
Cablesa, S.A. de C.V. | 0.00

The Department will disclose its calculations within 5 business days of the date of publication of this notice. Any interested party may request a hearing within 30 days of publication. Pursuant to 19 CFR § 351.310(d), any hearing, if requested, will be held 37 days after the publication of this notice, or the first workday thereafter. Interested parties may submit case briefs within 30 days of the date of publication of this notice. Rebuttal briefs, which must be limited to issues raised in the case briefs, may be filed not later than 35 days after the date of publication. The Department will publish a notice of final results of this administrative review, which will include the results of its analysis of issues raised in any such comments, not later than 120 days after the date of publication of this notice.

Upon issuance of the final results of review, the Department shall determine, and the Customs Service shall assess, antidumping duties on all appropriate entries. Upon completion of this review, the Department will issue appraisement instructions directly to the Customs Service.

Furthermore, the following deposit rates will be effective upon publication of the final results of these reviews for all shipments of steel wire rope products from Mexico entered, or withdrawn from warehouse, for consumption on or after the publication date, as provided for by section 751(a)(2)(c) of the Act: (1) The cash deposit rate for the reviewed companies will be the rates established in the final results of these reviews; (2) For merchandise exported by manufacturers or exporters not covered in these reviews but covered in the original investigation of sales at LTFV or a previous review, the cash deposit will continue to be the company-specific rate published for the most recent period; (3) If the exporter is not a firm covered in this or a previous review, or the original LTFV investigation, but the manufacturer is, the cash deposit rate will be the rate established for the most recent period for the manufacturer of the merchandise; and (4) for all other producers and/or exporters of this merchandise, the cash deposit rate shall be 111.68 percent, the “all others” rate established in the LTFV investigation (58 FR 7531, February 8, 1993).

These deposit rates, when imposed, shall remain in effect until publication of the final results of the next administrative review. This notice also serves as a preliminary reminder to importers of their responsibility under 19 CFR § 351.402(f) to file a certificate regarding the reimbursement of antidumping duties prior to liquidation of the relevant entries during this review period. Failure to comply with this requirement could result in the Secretary's presumption that reimbursement of antidumping duties occurred and the subsequent assessment of double antidumping duties.

This administrative review and notice are issued and published in accordance with sections 751(a)(1) and (a)(2)(B) of the Act (19 USC 1675(a)) and 19 CFR §§ 351.213-14.

Dated: March 30, 2000.
Robert S. LaRussa,
Assistant Secretary for Import Administration.

[FR Doc. 00-8700 Filed 4-6-00; 8:45 am]

BILLING CODE 3510-DS-P